DEPARTMENT OF LABOR

Employment and Training Administration

[NAFTA-04028]

Charles Craft, Incorporated, Wadesboro, North Carolina; Termination of Investigation

Pursuant to Title V of the North American Free Trade Agreement Implementation Act (Pub. L. 103-182) concerning transitional adjustment assistance, hereinafter called (NAFTA-TAA), and in accordance with Section 250(a), Subchapter D, Chapter 2, Title II, of the Trade Act of 1974, as amended (19 U.S.C. 2273), an investigation was initiated on July 18, 2000 in response to a petition filed on behalf of workers at Charles Craft, Incorporated, Wadesboro, North Carolina.

In a letter dated August 1, 2000, the petitioners requested that the petition for NAFTA-TAA be withdrawn. Consequently, further investigation in this case would serve no purpose, and the investigation has been terminated.

Signed at Washington, DC, this 10th day of August 2000.
Grant D. Beale,
Program Manager, Division of Trade Adjustment Assistance.

[FR Doc. 00-21731 Filed 8-24-00; 8:45 am]

BILLING CODE 4510-30-M